DEPARTMENT OF ENERGY

Federal Energy Regulatory Commission

[Docket No. RP00-212-000]

NUI Corporation (City Gas Company of Florida, Division) v. Florida Gas Transmission Company; Notice of Complaint

March 10, 2000.

Take notice that on March 9, 2000, NUI Corporation (City Gas Company of Florida Division) (NUI/City Gas) filed a complaint against Florida Gas Transmission Company (FGT) stating that FGT has filed to afford NUI/City Gas the full rights it holds under the regulatory Right of First Refusal (ROFR), in direct contravention of Commission policy and precedent as well as FGT's relevant tariff provisions.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be field on or before March 28, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www/ferc.fed.us/online/rims.htm (call 202-208-2222) for assistance. Answers to the complaint shall also be due on or before March 28, 2000.

David P. Boergers,
Secretary.

[FR Doc. 00-6451 Filed 3-15-00; 8:45 am]

BILLING CODE 6717-01-M